DEPARTMENT OF DEFENSE

Defense Contract Audit Agency

32 CFR Part 317

Privacy Act; Implementation

AGENCY: Defense Contract Audit Agency.

ACTION: Proposed rule.

SUMMARY: The Defense Contract Audit Agency (DCAA) is proposing to update the DCAA Privacy Act Program Rules, 32 CFR, Part 317, by deleting references to a cancelled publication and by adding guidance concerning the blanket exemption for classified material.

DATES: Comments must be received on or before January 3, 2006 to be considered by this agency.

ADDRESSES: Send comments to Senior Advisor, Defense Contract Audit Agency, Information and Privacy, CM, 8725 John J. Kingman Road, Suite 2135, Fort Belvoir, VA 22060-6201.

FOR FURTHER INFORMATION CONTACT: Ms. Debbie Teer at (703) 767-1002.

SUPPLEMENTARY INFORMATION:

Executive Order 12866, “Regulatory Planning and Review”

It has been determined that Privacy Act rules for the Department of Defense are not significant rules. The rules do not (1) Have an annual effect on the economy of $100 million or more or adversely affect in a material way the economy; a sector of the economy; productivity; competition; jobs; the environment; public health or safety; or State, local, or tribal governments or communities; (2) Create a serious inconsistency or otherwise interfere with an action taken or planned by another Agency; (3) Materially alter the budgetary impact of entitlements, grants, user fees, or loan programs, or the rights and obligations of recipients thereof; or (4) Raise novel legal or policy issues arising out of legal mandates, the President's priorities, or the principles set forth in this Executive order.

Public Law 96-354, “Regulatory Flexibility Act” (5 U.S.C. Chapter 6)

It has been determined that Privacy Act rules for the Department of Defense do not have significant economic impact on a substantial number of small entities because they are concerned only with the administration of Privacy Act systems of records within the Department of Defense.

Public Law 96-511, “Paperwork Reduction Act” (44 U.S.C. Chapter 35)

It has been determined that Privacy Act rules for the Department of Defense impose no information requirements beyond the Department of Defense and that the information collected within the Department of Defense is necessary and consistent with 5 U.S.C. 552a, known as the Privacy Act of 1974.

Section 202, Public Law 104-4, “Unfunded Mandates Reform Act”

It has been determined that Privacy Act rulemaking for the Department of Defense does not involve a Federal mandate that may result in the expenditure by State, local and tribal governments, in the aggregate, or by the private sector, of $100 million or more and that such rulemaking will not significantly or uniquely affect small governments.

Executive Order 13132, “Federalism”

It has been determined that Privacy Act rules for the Department of Defense do not have federalism implications. The rules do not have substantial direct effects on the States, on the relationship between the National Government and the States, or on the distribution of power and responsibilities among the various levels of government.

List of Subjects in 32 CFR Part 317

Privacy.

Accordingly, 32 CFR part 317 is proposed to be amended as follows:

PART 317—DCAA PRIVACY ACT PROGRAM

1. The authority citation for 32 CFR part 317 continues to read as follows:

Authority: Pub. L. 93-579, 88 Stat. 1896 (5 U.S.C. 552a)

§ 317.4 [Amended]

2. Amend § 317.4 as follows:

a. Remove paragraph (c)(5).

b. Redesignate paragraphs (c)(6), (c)(7), and (c)(8) as (c)(5), (c)(6), and (c)(7).

3. Amend part 317 by adding § 317.7 as follows:

§ 317.7 Exemptions.

All systems of records maintained by DCAA will be exempt from the requirements of 5 U.S.C. 552a(d) and (e)(4)(H) pursuant to 5 U.S.C. 552a(k)(1) to the extent that the system contains any information properly classified under Executive Order 12958, that is required by the Executive Order to be kept secret in the interest of national defense or foreign policy. This exemption, which may be applicable to parts of all systems of records, is necessary since certain record systems, not otherwise specifically designated for exemptions herein, may contain isolated items of information which have been properly classified.

Dated: October 27, 2005.
L.M. Bynum,
Alternate OSD Federal Register Liaison Officer, Department of Defense.

[FR Doc. 05-21783 Filed 11-1-05; 8:45 am]

BILLING CODE 5001-06-M